DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
(11/10/2009 through 12/17/2009)
Firm | Address | Date accepted for filing | Products
Ask Products, Inc | 544 N. Highland Avenue, Aurora, IL 60506 | 11/10/2009 | Copper and aluminum connectors for electrical power uses, including terminal lugs, electrical splices, grounding straps and cables.
Pipeline Equipment, Inc | 8403 South 89th West, Tulsa, OK 74131 | 11/30/2009 | Oil and gas transfer and recovery products.
Window Technology, Inc. d/b/a WinTech | 201 Industrial Drive, Monett, MO 65708-0480 | 12/4/2009 | Aluminum & vinyl windows, HVAC access doors, aluminum louvers & various fabricated aluminum components.
Gray Manufacturing Company, Inc | 3501 S. Leonard Road, St. Joseph, MO 64503 | 12/4/2009 | Hydraulic & pneumatic jack/lift systems.
Vektek, Inc | 1334 E. 6th Avenue, P.O., Emporia, KS 66801 | 12/1/2009 | Hydraulic and pneumatic work holding equipment and components.
Capital Electro-Circuits, Inc | 7845-I Airpark Road, Gaithersburg, MD 20879 | 12/14/2009 | Printed circuit boards.
Golden Chair Inc | 958 Washington Road, Houlka, MS 38850 | 12/14/2009 | Upholstered chairs.
Mike's Micro Parts, Inc | 1901 Potrero Ave., South El Monte, CA 91733 | 12/16/2009 | Machined castings and parts for industrial, commercial and nuclear pumps, valves, fluid products, medical equipment, electronics, transportation, and food machinery products.
Optikos Corporation | 107 Audubon Road, Bldg. 3, Wakefield, MA 01880 | 12/15/2009 | Optical instruments and lenses.
Timber Truss Housing Systems, Inc | PO Box 996, 525, McClelland St. Salem, VA 24153 | 12/14/2009 | Housing products: trusses, floor trusses, wall panels, door units, windows, siding, shingles, cabinets, flooring, lumber, trim roofing, plywood, and countertops.
Harbec Plastics, Inc | 369 Route 104, Ontario, NY 14519-8999 | 12/15/2009 | Injection or compression type molds and tooling for plastics parts.
Pro-Tech Interconnect Solutions, LLC | 4300 Peavey Rd., Chaska, MN 55318- | 11/30/2009 | Printed circuit boards.
Diemasters Manufacturing, Inc | 2100 Touhy, Elk Grove, IL 60126 | 11/10/2009 | Die stamped metal parts.
MRT Sureway Inc. d.b.a. Sureway Tool | 2959 Hart Drive, Franklin Park, IL 60131 | 11/30/2009 | Metal display racks and related components.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: December 18, 2009.
Bryan Borlik,
Program Director.

[FR Doc. E9-30643 Filed 12-24-09; 8:45 am]

BILLING CODE 3510-24-P